DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed revision of an information collection. In accordance with the Paperwork Reduction Act of 1995 (44 U.S.C. 3506(c)(2)(A)), this notice seeks comments concerning the need to continue collecting information from individuals and States in order to provide and/or administer disaster assistance through the Federal Assistance to Individuals and Households Program (IHP).

SUPPLEMENTARY INFORMATION: Section 206(a) of the Disaster Mitigation Act of 2000 (DMA 2000) consolidated into one section of the Robert T. Stafford Disaster Relief and Emergency Assistance Act, the “Temporary Housing Assistance” and the “Individual and Family Grant Programs” into a single program called “Federal Assistance to Individuals and Households” (IHP). To implement this consolidation, intended to streamline the provision of assistance to disaster victims, FEMA published rule 44 CFR part 206 which became effective on September 30, 2002. Under this rule applicants are able to request approval of late registrations, request continued assistance, and appeal program decisions. Similarly, States can partner with FEMA for delivery of disaster assistance under the “Other Needs” provision of the IHP through Administrative Option Agreements and Administration Plans addressing the level of managerial and resource support necessary.

Collection of Information

Title: Federal Assistance to Individuals and Households Program (IHP).

Type of Information Collection: Revision of a currently approved collection.

OMB Number: 1660-0061.

Form Numbers: None.

Abstract: The Federal Assistance to Individual and Household Program (IHP) enhances applicants' ability to request approval of late applications, request continued assistance, and appeal program decisions. Similarly, it allows States to partner with FEMA for delivery of disaster assistance under the “Other Needs” provision of the IHP through Administrative Option Agreements and Administration Plans addressing the level of managerial and resource support necessary.

Affected Public: Individuals and households; State, local or tribal governments.

Estimated Total Annual Burden Hours: 29,716 hours.

Annual Burden Hours
Project/activity (survey, form(s), focus group, etc.) | Number of respondents (A) | Frequency of responses (B) | Burden hours per respondent (C) | Annual responses (AxB) | Total annual burden hours (AxBxC)
Individuals:
Request for Approval of Late Registration | 8,000 | 1 | .75 hr. (45 min) | 8,000 | 6,000
Request for Continued Assistance | 2,000 | 1 | .50 hr. (30 min) | 2,000 | 1,000
Appeal of Program Decision (to include review and use of supplemental guidance | 30,000 | 1 | .75 hr. (45 min) | 30,000 | 22,500
States:
Review of Administrative Option Agreement for the Other Needs provision of IHP | 56 | 1 | 3.0 hrs | 56 | 168
Development of State Administrative Plan for the Other Needs provision of IHP | 16 | 1 | 3.0 hrs | 16 | 48
Total | 40,072 | 1 | 40,072 |  | 29,716

Estimated Cost: $173,354.00

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Berl Jones, Chief, Individual Assistance Program Management Section at (202) 646-3943 for additional information. You may contact Ms. Anderson for copies of the proposed collection of information at facsimile number (202) 646-3347 or email address: FEMA-Information-Collections@dhs.gov.

Dated: February 11, 2005.
George S. Trotter,
Acting Branch Chief, Information Resources Management Branch, Information Technology Services Division.

[FR Doc. 05-3132 Filed 2-17-05; 8:45 am]

BILLING CODE 9110-10-P